DEPARTMENT OF HEALTH AND HUMAN SERVICES

Health Resources and Services Administration

Health Center Program

AGENCY: Health Resources and Services Administration, HHS.

ACTION: Notice of Class Deviation from Competition Requirements for the Health Center Program.

SUMMARY: In accordance with the Awarding Agency Grants Administration Manual (AAGAM) Chapter 2.04.103, the Bureau of Primary Health Care (BPHC) has been granted a class deviation from the exceptions to maximum competition requirements contained in the AAGAM Chapter 2.04.104A-5 to provide additional funding without competition to the 144 Health Center Program award recipients whose budget period ends November 30, 2015, for up to 5 months. The extension allows BPHC to eliminate the December 1 budget period start date by redistributing these grants to established start dates later in the fiscal year, thereby allowing award recipients comparable opportunity to prepare and submit applications while allowing BPHC to remain compliant with internal process timelines.

SUPPLEMENTARY INFORMATION:

Intended Recipient of the Award: Health Center Program award recipients with a project period end date of November 30, 2015.

Amount of Non-Competitive Awards: $85,451,535.

Period of Supplemental Funding: December 1, 2015, to maximum April 30, 2016.

CFDA Number: 93.224.

Authority: Section 330 of the Public Health Service Act, as amended (42 U.S.C. 254b, as amended).

Justification: Targeting the nation's neediest populations and geographic areas, the Health Center Program currently funds nearly 1,300 health centers that operate approximately 9,000 service delivery sites in every state, the District of Columbia, Puerto Rico, the Virgin Islands, and the Pacific Basin. In 2013, more than 21 million patients, including medically underserved and uninsured patients, received comprehensive, culturally competent, quality primary health care services through the Health Center Program award recipients. Due to the vast size of the Health Center Program, the active grants are distributed across seven budget periods that begin on the first of the month, December through June.

BPHC uses the information award recipients report annually via the Uniform Data System (UDS) to objectively determine the patient and service area requirements that new and continuing applications must address. The requirements are available for applicant use in June. The deviation allows BPHC to redistribute the award recipients with December 1 starting dates to budget period start dates later in the fiscal year, thus allowing these award recipients comparable opportunity to prepare and submit applications while allowing BPHC to remain compliant with internal process timelines. By September 15, 2015, $85,451,535 will be awarded to these 144 award recipients to continue approved activities for up to 5 months. Award recipients will report progress and financial obligations made during their budget period extension through routine reports.

Table 1—Award Recipients
Grant No. | Award recipient name | State | New budget period start | Prorated award amount ($)
H80CS00057 | The Providence Community Health Centers, Inc | RI | January | 460,800
H80CS00058 | East Boston Neighborhood Health Center Corporation | MA | February | 561,147
H80CS00059 | Wood River Health Services, Inc | RI | May | 425,646
H80CS00060 | East Harlem Council for Human Services, Inc | NY | April | 652,402
H80CS00061 | William F. Ryan Community Health Center, Inc | NY | January | 691,645
H80CS00062 | Newark Community Health Centers, Inc | NJ | February | 633,059
H80CS00063 | Consejo De Salud De Puerto Rico, Inc | PR | January | 733,064
H80CS00064 | Oda Primary Health Care Center, Inc | NY | April | 667,221
H80CS00065 | Family Health Network of Central New York, Inc | NY | May | 611,735
H80CS00067 | Park West Health Systems, Inc | MD | February | 568,343
H80CS00068 | Total Health Care, Inc | MD | January | 343,277
H80CS00069 | Tri-State Community Health Center | MD | April | 958,543
H80CS00070 | Unity Health Care, Inc | DC | January | 749,122
H80CS00071 | Covenant House, Inc | PA | April | 763,811
H80CS00072 | Sto-Rox Neighborhood Health Council, Inc | PA | May | 654,267
H80CS00073 | Peninsula Institute For Community Health, Inc | VA | January | 460,088
H80CS00074 | Scranton Primary Health Care Center, Inc | PA | May | 458,125
H80CS00075 | New River Health Association, Inc | WV | April | 547,263
H80CS00076 | Keystone Rural Health Center | PA | April | 1,068,687
H80CS00078 | Camden-On-Gauley Medical Center, Inc | WV | May | 398,198
H80CS00080 | Community Care of West Virginia, Inc | WV | April | 786,007
H80CS00081 | Rural Health Care, Inc | FL | February | 633,939
H80CS00082 | Curtis V. Cooper Primary Health Care, Inc | GA | April | 893,829
H80CS00083 | Park Duvalle Community Health Center, Inc | KY | January | 335,986
H80CS00084 | Central Mississippi Civic Improvement Association, Inc | MS | January | 462,927
H80CS00085 | Delta Health Center, Inc | MS | February | 579,228
H80CS00086 | Piedmont Health Services, Inc | NC | January | 468,414
H80CS00087 | Wake Health Services, Inc | NC | April | 1,042,868
H80CS00088 | Greene County Health Care, Inc | NC | January | 509,538
H80CS00090 | Family Health Centers, Inc | SC | January | 360,589
H80CS00091 | Erlanger Medical Center | TN | April | 791,040
H80CS00092 | Low Country Health Care System, Inc | SC | April | 644,741
H80CS00093 | Georgia Mountains Health Services, Inc | GA | April | 825,098
H80CS00094 | Whatley Health Services, Inc | AL | January | 488,781
H80CS00096 | Mantachie Rural Health Care, Inc | MS | May | 243,710
H80CS00097 | Manatee County Rural Health Services, Inc | FL | January | 552,786
H80CS00098 | Bayou La Batre Area Health Development Board, Inc | AL | April | 805,603
H80CS00099 | Franklin Primary Health Center, Inc | AL | January | 813,618
H80CS00100 | First Choice Community Health Centers | NC | April | 552,595
H80CS00101 | Premier Community Healthcare Group, Inc | FL | January | 341,791
H80CS00102 | Family Health Centers, Inc | KY | January | 407,856
H80CS00104 | Kinston Community Health Center, Inc | NC | April | 623,329
H80CS00105 | Central North Alabama Health Services, Inc | AL | April | 891,178
H80CS00106 | Lewis County Primary Care Center, Inc | KY | April | 614,791
H80CS00107 | Robeson Health Care Corporation | NC | April | 906,337
H80CS00108 | Baldwin Family Health Care | MI | April | 908,083
H80CS00109 | TCA Health, Inc Nfp. | IL | May | 515,392
H80CS00110 | Neighborhood Health Association of Toledo, Inc | OH | April | 840,647
H80CS00111 | Heartland Health Outreach, Inc | IL | January | 396,253
H80CS00112 | Open Cities Health Center | MN | April | 672,575
H80CS00113 | Crusaders Central Clinic Association | IL | January | 418,512
H80CS00114 | Healthnet, Inc | IN | January | 476,909
H80CS00115 | Erie Family Health Center, Inc | IL | January | 507,472
H80CS00116 | Alivio Medical Center, Inc | IL | April | 1,059,492
H80CS00117 | AxessPointe Community Health Center, Inc | OH | May | 677,233
H80CS00118 | Columbus Neighborhood Health Center, Inc | OH | January | 373,944
H80CS00119 | County of Lake | IL | February | 552,637
H80CS00120 | Friend Family Health Center, Inc | IL | April | 806,746
H80CS00122 | Lee County Cooperative Clinic | AR | April | 815,098
H80CS00123 | East Arkansas Family Health Center, Inc | AR | April | 913,567
H80CS00124 | Cross Timbers Health Clinics, Inc | TX | April | 909,224
H80CS00125 | Community Health Centers of South Central Texas, Inc | TX | May | 611,910
H80CS00126 | Regence Health Network, Inc | TX | January | 383,342
H80CS00127 | Martin Luther King Jr Family Clinic, Inc | TX | February | 573,277
H80CS00128 | Centro De Salud Familiar La Fe, Inc | TX | January | 458,443
H80CS00129 | Excelth, Inc | LA | January | 338,583
H80CS00130 | Community Health Development, Inc | TX | April | 908,327
H80CS00131 | Kansas Department of Health and Environment | KS | May | 542,788
H80CS00132 | Richland Medical Clinic, Inc | MO | April | 828,672
H80CS00133 | Betty Jean Kerr—People's Health Centers | MO | February | 631,044
H80CS00134 | Valley Wide Health Systems, Inc | CO | January | 535,388
H80CS00135 | Horizon Health Care, Inc | SD | January | 348,833
H80CS00137 | United Health Centers of the San Joaquin Valley | CA | January | 669,889
H80CS00138 | Community Medical Centers, Inc | CA | January | 522,161
H80CS00139 | Northeast Valley Health Corporation | CA | January | 899,164
H80CS00140 | Adelante Healthcare, Inc | AZ | January | 408,861
H80CS00141 | Mountain Park Health Center | AZ | January | 601,935
H80CS00142 | Altamed Health Services Corporation | CA | January | 703,237
H80CS00143 | Darin M. Camarena Health Centers, Inc | CA | February | 549,375
H80CS00145 | South County Community Health Center, Inc | CA | April | 947,950
H80CS00146 | Anchorage Neighborhood Health Center, Inc | AK | February | 557,898
H80CS00147 | Columbia Basin Health Association | WA | January | 406,414
H80CS00148 | Northwest Human Services, Inc | OR | April | 810,809
H80CS00149 | County of Multnomah | OR | January | 669,764
H80CS00215 | Heartland International Health Centers | IL | April | 711,254
H80CS00323 | Concilio De Salud Integral De Loiza, Inc | PR | January | 328,371
H80CS00676 | Community Health Systems, Inc | WI | May | 529,257
H80CS00850 | Watts Healthcare Corporation | CA | January | 337,408
H80CS04196 | Cheyenne Health and Wellness Center | WY | May | 405,179
H80CS04197 | Partnership Community Health Center, Inc | WI | May | 423,294
H80CS04200 | Community Health Centers of Southern Iowa, Inc | IA | May | 412,351
H80CS04201 | Community Council of Idaho, Inc | ID | May | 390,180
H80CS04202 | Mary's Center For Maternal and Child Care, Inc | DC | May | 544,160
H80CS04203 | Juniper Health, Inc | KY | May | 668,967
H80CS04204 | Community Health Center | OR | April | 631,155
H80CS04205 | Lewis County Community Health Services, Inc | WA | May | 463,722
H80CS04206 | Asher Community Health Center | OR | May | 204,088
H80CS04207 | Columbia River Community Health Services | OR | May | 320,816
H80CS04208 | Yakutat Tribe | AK | May | 267,278
H80CS04209 | Alaska Island Community Services | AK | April | 627,569
H80CS04210 | Goodwin Community Health | NH | May | 469,613
H80CS04211 | Zufall Health Center, Inc | NJ | February | 571,828
H80CS04212 | Health Partners of Western Ohio | OH | April | 928,816
H80CS04213 | The Brevard Health Alliance, Inc | FL | April | 860,910
H80CS04214 | Citrus Health Network, Inc | FL | April | 581,191
H80CS04215 | Healthfirst Family Care Center, Inc | MA | May | 519,561
H80CS04216 | Salina Health Education Foundation | KS | May | 421,788
H80CS04217 | Venice Family Clinic | CA | May | 651,363
H80CS04218 | County of Solano | CA | May | 596,799
H80CS04219 | Community Health Clinic Ole | CA | April | 583,317
H80CS04220 | Community Health Alliance Of Pasadena | CA | February | 623,981
H80CS04222 | Valley Community Healthcare | CA | April | 893,755
H80CS04223 | EISNER Pediatric & Family Medical Center | CA | April | 859,741
H80CS04224 | Karuk Tribe | CA | May | 378,421
H80CS04226 | Hill Country Community Clinic | CA | May | 418,025
H80CS04286 | Stigler Health & Wellness Center, Inc | OK | April | 766,526
H80CS04287 | Project Vida Health Center | TX | April | 801,248
H80CS04288 | River Valley Primary Care Services | AR | May | 429,862
H80CS04289 | Lone Star Circle of Care | TX | April | 884,105
H80CS04290 | St. Francis House NWA, Inc | AR | April | 866,346
H80CS04291 | Penobscot Community Health Center, Inc | ME | February | 548,814
H80CS06444 | Hernando County Health Department/Nature Coast CHC, Inc | FL | May | 429,170
H80CS06445 | Fourth Ward d.b.a Good Neighbor Healthcare Center | TX | May | 450,233
H80CS06446 | Community Health Connection, Inc | OK | May | 409,525
H80CS06447 | Spring Branch Community Health Center | TX | April | 567,997
H80CS06449 | Pasadena Health Center, Inc | TX | May | 410,263
H80CS06450 | Tensas Community Health Center | LA | May | 276,396
H80CS06452 | Pancare of Florida, Inc | FL | February | 565,567
H80CS06453 | Pushmataha Family Medical Center, Inc | OK | May | 388,158
H80CS06454 | Primary Care of Southwest Georgia, Inc | GA | May | 659,322
H80CS06455 | Midland Community Healthcare Services | TX | May | 413,243
H80CS06456 | Fairfax Medical Facilities, Inc | OK | April | 548,527
H80CS06457 | North Texas Area Community Health Centers, Inc | TX | May | 675,548
H80CS06458 | Osceola County Health Department | FL | April | 631,458
H80CS06459 | Primary Care Providers for a Healthy Feliciana | LA | April | 1,009,172
H80CS06460 | Shackelford County Community Resource Center | TX | April | 757,384
H80CS06461 | Chota Community Health Services | TN | May | 435,160
H80CS06674 | Los Angeles Christian Health Centers | CA | February | 549,003
H80CS08329 | Adams County Health Center, Inc | ID | May | 307,964
H80CS08777 | County of Cass | IL | May | 367,674
H80CS11255 | Stephen F. Austin Community Health Center, Inc | TX | May | 399,520
H80CS18278 | Rainelle Medical Center | WV | May | 312,398
H80CS25436 | The Health & Hospital Corp of Marion County | IN | May | 634,731
H80CS25679 | J C Lewis Health Center | GA | April | 597,193

FOR FURTHER INFORMATION CONTACT: Olivia Shockey, Expansion Division Director, Office of Policy and Program Development, Bureau of Primary Health Care, Health Resources and Services Administration at 301-443-9282 or oshockey@hrsa.gov.

Dated: July 31, 2015.
James Macrae,
Acting Administrator.

[FR Doc. 2015-19524 Filed 8-7-15; 8:45 am]

BILLING CODE 4165-15-P